DEPARTMENT OF THE INTERIOR

National Park Service

[NPS-WASO-NAGPRA-12548; PPWOCRADN0-PCU00RP14.R50000]

Notice of Inventory Completion: U.S. Department of the Interior, National Park Service, Grand Canyon National Park, Grand Canyon, AZ

AGENCY: National Park Service, Interior.

ACTION: Notice.

SUMMARY: The U.S. Department of the Interior, National Park Service, Grand Canyon National Park has completed an inventory of human remains and associated funerary objects, in consultation with the appropriate Indian tribes, and has determined that there is a cultural affiliation between the human remains and associated funerary objects and present-day Indian tribes. Representatives of any Indian tribe that believes itself to be culturally affiliated with the human remains and associated funerary objects may contact Grand Canyon National Park. Repatriation of the human remains and associated funerary objects to the Indian tribes stated below may occur if no additional claimants come forward.

DATES: Representatives of any Indian tribe that believes it has a cultural affiliation with the human remains and associated funerary objects should contact Grand Canyon National Park at the address below by May 10, 2013.

ADDRESSES: David Uberuaga, Superintendent, Grand Canyon National Park, P.O. Box 129, Grand Canyon, AZ 86023, telephone (928) 638-7945.

SUPPLEMENTARY INFORMATION: Notice is here given in accordance with the Native American Graves Protection and Repatriation Act (NAGPRA), 25 U.S.C. 3003, of the completion of an inventory of human remains and associated funerary objects in the possession of Grand Canyon National Park, Grand Canyon, AZ. The human remains and associated funerary objects were removed from within Grand Canyon National Park, Coconino County, AZ.

This notice is published as part of the National Park Service's administrative responsibilities under NAGPRA, 25 U.S.C. 3003(d)(3). The determinations in this notice are the sole responsibility of the Superintendent, Grand Canyon National Park.

Consultation

A detailed assessment of the human remains was made by Grand Canyon National Park professional staff in consultation with representatives of the Havasupai Tribe of the Havasupai Reservation, Arizona; Hopi Tribe of Arizona; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico, & Utah; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); San Juan Southern Paiute Tribe of Arizona; White Mountain Apache Tribe of the Fort Apache Reservation, Arizona; Yavapai-Apache Nation of the Camp Verde Indian Reservation, Arizona; and Zuni Tribe of the Zuni Reservation, New Mexico (hereafter referred to as “The Tribes”).

History and Description of the Remains

In 1969, human remains representing a minimum of one individual were removed from site AZ B:16:103 in Coconino County, AZ, during legally authorized excavations by Robert Cornelius. No known individuals were identified. The two associated funerary objects are one Deadman's Black-on-red ceramic bowl and one Dogozshi Black-on-white ceramic canteen.

Site architecture and associated funerary objects indicate that the site was occupied by ancestral Puebloan peoples, and the human remains were buried between A.D. 1050 and 1150.

In 1969-1970, human remains representing a minimum of four individuals were removed from Walhalla Ruin in Coconino County, AZ, during legally authorized excavations by the School of American Research under the direction of Douglas W. Schwartz. The human remains and associated funerary objects were first stored at the School of American Research, transferred to the National Park Service's Western Archeological and Conservation Center in Tucson, AZ, in 1989, and then transferred to Grand Canyon National Park in 2006. No known individuals were identified. The 103 associated funerary objects are 1 Walhalla Black-on-white bowl; 2 Tusayan Black-on-red jars; 1 Citadel Polychrome bowl; 1 Tusayan White Ware jar with handle; 1 Shinarump corrugated jar; 2 cores; 48 flakes; 1 projectile point; 1 bead bracelet; 4 Middleton Polychrome sherds; 2 Flagstaff Black-on-white bowls; 1 Virgin Black-on-white jar with two handles; 1 Tusayan corrugated pitcher; 1 Sosi Black-on-white pitcher; 1 Dogoszhi Black-on-white pitcher; 1 Holbrook Black-on-white bowl; 2 Walhalla corrugated jars, each with one handle; 1 Walnut Black-on-white seed jar; 1 Walnut Black-on-white bowl; 2 fragments of a rectangular stone ornament; 26 sherds; 1 bag of fragmentary mammal bones; and 1 mano.

Walhalla Ruin is part of a larger complex of hundreds of sites located on the North Rim of the Grand Canyon. Site architecture, cross-dating, ceramic typology, dendrochronology, and tools found at the site indicate that Walhalla Ruin was occupied by ancestral Puebloan peoples between A.D. 1050 and 1150.

In 1969-1970, human remains representing a minimum of one individual were removed from GC 671 in Coconino County, AZ, during legally authorized excavations conducted by Southern Utah University under the direction of Richard A. Thompson. The human remains were curated at Southern Utah University until 1996, when they were transferred to Grand Canyon National Park. No known individuals were identified. The three associated funerary objects are one worked and drilled bowl fragment (Sosi black-on-white), one plain gray jar, and one mano fragment.

Site architecture, ceramics, and flaked stone tools indicate that the site was occupied by ancestral Puebloan peoples between A.D. 1000 and 1300.

In 1976-1977, human remains representing a minimum of six individuals were removed from GC 663 in Coconino County, AZ, during legally authorized excavations by the Southern Utah University Archeological Field School under the direction of Richard A. Thompson. The human remains were curated at Southern Utah University until 1996, when they were transferred to Grand Canyon National Park. No known individuals were identified. The three associated funerary objects are one partial small ceramic jar, one ceramic sherd, and one ceramic bowl fragment with rim.

Site architecture and associated funerary objects suggest that GC 663 was occupied by ancestral Puebloan peoples between A.D. 400 and 1300.

In 1977, human remains representing a minimum of one individual were removed from AZ C:13:85 in Coconino County, AZ, during legally authorized excavations by former Grand Canyon anthropologist Robert C. Euler. No known individuals were identified. The three associated funerary objects are one Tusayan Black-on-red ceramic seed jar, one Black-on-white ceramic bowl fragment, and one Tusayan corrugated wide-mouth ceramic jar.

The associated funerary objects indicate that this individual was buried between A.D. 1050 and 1150.

Architectural similarities, material culture, geography, and oral histories indicate close cultural and historical ties between the ancestral Puebloan peoples and the Hopi Tribe of Arizona and Zuni Tribe of the Zuni Indian Reservation, New Mexico.

Archeological assemblages, geography, place names, and oral history indicate cultural and historical ties between the inhabitants of these sites and several of the Southern Paiute tribes (Kaibab Band of Paiute Indians, Las Vegas Tribe of Paiute Indians, Moapa Band of Paiute Indians, and Shivwits Band of Paiutes).

Determinations Made by Grand Canyon National Park

Officials of Grand Canyon National Park have determined that:

• Pursuant to 25 U.S.C. 3001(9), the human remains described in this notice represent the physical remains of 13 individuals of Native American ancestry.

• Pursuant to 25 U.S.C. 3001(3)(A), the 114 objects described above are reasonably believed to have been placed with or near individual human remains at the time of death or later as part of the death rite or ceremony.

• Pursuant to 25 U.S.C. 3001(2), there is a relationship of shared group identity that can be reasonably traced between the Native American human remains and associated funerary objects and the Hopi Tribe of Arizona; Kaibab Band of Paiute Indians of the Kaibab Indian Reservation, Arizona; Las Vegas Tribe of Paiute Indians of the Las Vegas Indian Colony, Nevada; Moapa Band of Paiute Indians of the Moapa River Indian Reservation, Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); and Zuni Tribe of the Zuni Reservation, New Mexico.

Additional Requestors and Disposition

Representatives of any Indian tribe that believes itself to be culturally affiliated with the human remains and associated funerary objects should contact David Uberuaga, Superintendent, Grand Canyon National Park, P.O. Box 129, Grand Canyon, AZ 86023, telephone (928) 638-7945, before May 10, 2013. Repatriation of the human remains and associated funerary objects to the Hopi Tribe of Arizona; Kaibab Band of Paiute Indians of the Kaibab Indian Reservation, Arizona; Las Vegas Tribe of Paiute Indians of the Las Vegas Indian Colony, Nevada; Moapa Band of Paiute Indians of the Moapa River Indian Reservation, Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); and Zuni Tribe of the Zuni Reservation, New Mexico may proceed after that date if no additional claimants come forward.

Grand Canyon National Park is responsible for notifying The Tribes that this notice has been published.

Dated: March 11, 2013.
Sherry Hutt,
Manager, National NAGPRA Program.

[FR Doc. 2013-08381 Filed 4-9-13; 8:45 am]

BILLING CODE 4310-50-P